DEPARTMENT OF HEALTH AND HUMAN SERVICES

National Institutes of Health

Open Meeting Notice

Notice is hereby given that the National Institutes of Health (NIH), Department of Health and Human Services, will hold a scientific workshop.

Title: “State of the Knowledge Workshop on Myalgic Encephalomyelitis/Chronic Fatigue Syndrome (ME/CFS) Research”.

Dates: April 7-8, 2011.

Time: 8 a.m. to 5 p.m.

Place: Building 31, Conference Rooms 6C8/9/10, NIH campus, Bethesda, Maryland.

Purpose of the Meeting: This workshop will bring together subject matter experts who will discuss multiple aspects of ME/CFS, including epidemiology, etiology, pathophysiology, diagnosis, and treatment. The workshop panelists will identify gaps in knowledge and opportunities for advancing biomedical research.

This workshop is open to the public. Please note that attendance is limited. We encourage registration for those attending in person (see Web address below). For those unable to attend, the workshop will be available via NIH VideoCasting (http://videocast.nih.gov/) both during and after the event.

Individuals with disabilities who need reasonable accommodation should indicate their needs on registration or contact Infinity Conference Group by telephone at 703-925-9455, ext. 0, or e-mail at icg@infinityconferences.com.

For more information including an agenda, registration, and visitor information, please visit the workshop Web site: https://www.infinityconferences.com/InfiniBase/Templates/157557/Index.htm.

Contact Person: Dennis Mangan, PhD; Chair, Trans-NIH ME/CFS Research Working Group, Office of Research on Women's Health, Division of Program Coordination, Planning, and Strategic Initiatives, Office of the Director, NIH; 301-496-9006; Dennis.Mangan@nih.gov.

Dated: March 14, 2011.
Francis S. Collins,
Director, National Institutes of Health.

[FR Doc. 2011-6458 Filed 3-17-11; 8:45 am]

BILLING CODE 4140-01-P